DEPARTMENT OF ENERGY

Federal Energy Regulatory Commission

[Docket No. CP24-27-000]

Kern River Gas Transmission Company; Notice of Staff Protest to Proposed Blanket Certificate Activity

Federal Energy Regulatory Commission (FERC or Commission) staff (Protestor) hereby protests the prior notice request filed under the provisions of the Commission's regulations at part 157, subpart F, by Kern River Gas Transmission Company (Kern River) on December 15, 2023, in the above-referenced docket. Pursuant to its Part 157, subpart F, blanket certificate authority, Kern River proposes to construct and operate the Lanes Crossing Meter Station (Project), within Kern River's existing Victorville Meter Station at the High Desert Power Plant, San Bernardino County, California. Protestor seeks to have this prior notice request processed as a case-specific application filed under section 7(c) of the Natural Gas Act (NGA) and Part 157, subpart A, of the Commission's regulations.¹

¹ Section 157.205(f) provides that a protested prior notice filing shall be treated as though it had filed a case-specific application under NGA section 7, unless, pursuant to section 157.205(g), the protestor withdraws its protest within 30 days after protests were due.

Protestor notes that Kern River did not provide a copy of a finding by the California State Historic Preservation Office of “no historic properties” or “no historic properties effected.” This documentation is necessary to demonstrate the Project's compliance with the National Historic Preservation Act, as required under the Commission's regulations at section 157.208(c)(9) and Appendix II of subpart F. Without this documentation, the environmental concerns cannot be adequately addressed before the protest period expires on February 26, 2024.

Dated: February 26, 2024.
Debbie-Anne A. Reese,
Acting Secretary.

[FR Doc. 2024-04416 Filed 3-1-24; 8:45 am]

BILLING CODE 6717-01-P